DEPARTMENT OF COMMERCE

National Institute of Standards and Technology

Proposed Information Collection; Comment Request; Survey of the Need for the Improvement of the Infrared Reflectance Measurements Standards

AGENCY: National Institute of Standards and Technology (NIST), Commerce.

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or before April 7, 2015.

ADDRESSES: Direct all written comments to Jennifer Jessup, Departmental Paperwork Clearance Officer, Department of Commerce, Room 6616, 14th and Constitution Avenue NW., Washington, DC 20230 (or via the Internet at JJessup@doc.gov).

FOR FURTHER INFORMATION CONTACT: Requests for additional information or copies of the information collection instrument and instructions should be directed to Leonard Hanssen, Sensor Science Division, NIST, 100 Bureau Dr., Stop 8442, Gaithersburg, MD 20899-8442, telephone: 301-975-2344, hanssen@nist.gov.

SUPPLEMENTARY INFORMATION:

I. Abstract

NIST plans to survey members of the infrared optical properties measurement community concerning their needs for standard reference materials, calibration services, workshops, courses, and other means for improvement of the quality of their measurement data and traceability to national standards.

II. Method of Collection

The survey will be delivered in electronic format as a WORD Form document. It will be sent as an email attachment to the survey participants. The participants will return the filled out forms to NIST, similarly via email.

III. Data

OMB Control Number: 0693-0065.

Form Number(s): None.

Type of Review: Extension without change of a Regular submission.

Affected Public: Businesses, academic institutions, and Federal government.

Estimated Number of Respondents: 30.

Estimated Time Per Response: 30 minutes.

Estimated Total Annual Burden Hours: 15.

Estimated Total Annual Cost to Public: $1,500.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: February 2, 2015.
Glenna Mickelson,
Management Analyst, Office of the Chief Information Officer.

[FR Doc. 2015-02340 Filed 2-5-15; 8:45 am]

BILLING CODE 3510-13-P